DEPARTMENT OF HOMELAND SECURITY

Coast Guard

33 CFR 104, 105 and 106

[Coast Guard-2006-24196]

RIN 1652-AA41

Transportation Worker Identification Credential (TWIC) Implementation in the Maritime Sector; Hazardous Materials Endorsement for a Commercial Driver's License

AGENCY: United States Coast Guard, DHS.

ACTION: Confirmation of effective date; approval of new Collection of Information (COI).

SUMMARY: In the final rule with this same title published January 25, 2007, we noted that the Office of Management and Budget (OMB) had not approved an extension and change to the collection of information associated with the amendments to 33 CFR 104.267, 105.257 and 106.262, requiring vessel and facility owners and operators wishing to grant unescorted access to a new hire prior to receipt of a TWIC to enter the new employee information into a Coast Guard owned and maintained Web site, homeport.uscg.mil, and await results of an expedited threat assessment. OMB has since approved that collection of information as Information Collection number 1625-0110, Maritime Identification Credentials—Title 33 CFR Part 125. The change was requested to extend an existing collection that was due to expire, and expand the collection to include the collection of information for the “new hire” provisions.

DATES: 33 CFR 104.267, 105.257, and 106.262, published January 25, 2007 (72 FR 3492) will be effective March 26, 2007. The OMB approval was granted on January 12, 2007, and expires January 31, 2010.

FOR FURTHER INFORMATION CONTACT: If you have questions on this document, call Kathryn Sinniger, Coast Guard, telephone 202-372-3858. If you have questions on viewing the docket (USCG-2005-20258), call Renee V. Wright, Program Manager, Docket Operations, telephone 202-493-0402.

SUPPLEMENTARY INFORMATION: Sections 104.267, 105.257 and 106.262 of title 33 of the Code of Federal Regulations (CFR) provide an option for owners, operators or security officers of MTSA regulated vessels or facilities to enter new employee information into a Coast Guard owned and maintained Web site, homeport.uscg.mil, and await the results of an expedited threat assessment in order to grant the new employee unescorted access prior to receipt of a TWIC. These sections are known as the “new hire” provision.

The “new hire” provision requirements affecting Homeport were added to collection 1625-0110 “Maritime Identification Credentials—Title 33 CFR Part 125,” which expired on November 30, 2006. The three year renewal for 1625-0110 was submitted to OMB on October 6, 2006, and an amendment to that renewal reflecting changes due to the “new hire” provision was submitted to OMB on December 29, 2006. The revision changed the collection, once the TWIC program goes into effect, to make the submission of new hire information voluntary but require owners and operators to wait until they receive a positive verification from Homeport before granting unescorted access to the new hire. The government's need for the information, the type of information to be submitted, the method of submission, and the frequency of submission should not change from the previously approved collection.

Submitting the new hire information is a collection of information under OMB control no. 1625-0110. The final rule that contained the provisions for these submissions was published in the Federal Register on January 25, 2007, and is available electronically through the docket (USCG-2006-24196) Web site at http://dms.dot.gov/ and will become effective on March 26, 2007.

As required by 44 U.S.C. 3507(d), we submitted a copy of the final rule to OMB for its review. On January 12, 2007, after reviewing the rule, OMB approved the collection of information required by this final rule under OMB control no. 1625-0110.

Dated: March 12, 2007.
J.G. Lantz,
Director of National and International Standards, Assistant Commandant for Prevention.

[FR Doc. E7-4847 Filed 3-16-07; 8:45 am]

BILLING CODE 4910-15-P